DEPARTMENT OF AGRICULTURE

Rural Utilities Service

Energy Answers Arecibo, LLC: Notice of Intent To Prepare a Supplemental Final Environmental Impact Statement

AGENCY: Rural Utilities Service, USDA.

ACTION: Notice of Intent To Prepare a Supplemental Final Environmental Impact Statement.

SUMMARY: The Rural Utilities Service (RUS) intends to prepare a Supplemental Final Environmental Impact Statement (SFEIS) to meet its responsibilities under the National Environmental Policy Act (NEPA), the Council on Environmental Quality's regulations for implementing NEPA (40 CFR Parts 1500-1508), and RUS's Environmental and Policies and Procedures (7 CFR Part 1794) in connection with potential impacts related to a proposal by Energy Answers Arecibo, LLC. The proposal consists of constructing a waste to energy generation and resource recovery facility in the Cambalache Ward of Arecibo, Puerto Rico. Energy Answers Arecibo, LLC may request a loan guarantee from RUS.

DATES: The SFEIS is scheduled for publication in March 2013. A notice of availability will be published in the Federal Register announcing its review period.

ADDRESSES: To send comments or for further information, please contact Ms. Lauren (McGee) Rayburn, Environmental Scientist, USDA Rural Utilities Service, P.O. Box 776, Haw River, North Carolina 27258-0776, telephone: (202) 695-2540, fax: (202) 690-0649, or email: lauren.mcgee@wdc.udsa.gov. Project related information will be available for download from RUS' Web site located at: http://www.rurdev.usda.gov/UWP-eis4.htm.

SUPPLEMENTARY INFORMATION: Energy Answers Arecibo, LLC proposes to a construct a waste to energy generation and resource recovery facility in the Cambalache Ward of Arecibo, Puerto Rico. The proposed facility would process approximately 2100 tons of municipal waste per day and generate a net capacity of 77 megawatts (MW). The Puerto Rico Electric Power Authority will purchase power generated from the facility. The preferred location of the facility is the site of a former paper mill and would cover approximately 79.6 acres of the 90-acre parcel. The proposal would include the following facility components: A municipal solid waste receiving and processing building; processed refuse fuel storage building; boiler and steam turbine; emission control system; ash processing and storage building; and other associated infrastructure and buildings. Two other connected actions, which would be constructed by other utilities, include installation of an approximately 2.0-mile raw water line and construction of a 38 kilovolt (kV) transmission line approximately 0.8 miles in length. The connected actions will be addressed in the proposal's SFEIS.

The Puerto Rico Industrial Development Company (PRIDCO) served as lead agency in preparation of a Final EIS prepared under Puerto Rico Article 4(b)(3), Law No. 46 (September 22, 2004), Environmental Public Policy Law. In accordance with 7 CFR 1794.74, RUS will incorporate by reference the environmental document prepared by PRIDCO into RUS's SFEIS.

Among the alternatives that RUS will address in the SFEIS is the No Action alternative, under which the proposal would not be undertaken. In the SFEIS, the effects of the proposal will be compared to the existing conditions in the proposal area. Public health and safety, environmental impacts, and engineering aspects of the proposal will be considered in the SFEIS.

RUS is the lead Federal agency, as defined at 40 CFR 1501.5, for preparation of the SFEIS. With this Notice, federally recognized Native American Tribes and Federal agencies with jurisdiction or special expertise are invited to be cooperating agencies. Such tribes or agencies may make a request to RUS to be a cooperating agency by contacting the RUS contact provided in this Notice. Designated cooperating agencies have certain responsibilities to support the NEPA process, as specified at 40 CFR 1501.6(b).

As part of its broad environmental review process, RUS must take into account the effect of the proposal on historic properties in accordance with Section 106 of the National Historic Preservation Act (Section 106) and its implementing regulation, “Protection of Historic Properties” (36 CFR part 800). Pursuant to 36 CFR 800.2(d)(3), RUS is using its procedures for public involvement under NEPA to meet its responsibilities to solicit and consider the views of the public during Section 106 review. Accordingly, comments submitted in response to this Notice will inform RUS decision-making in its Section 106 review process. Any party wishing to participate more directly with RUS as a “consulting party” in Section 106 review may submit a written request to the RUS contact provided in this Notice.

As applicable, the SFEIS will document changes in the affected environment and environmental consequences that may have occurred since the PRIDCO-prepared Final EIS was published in 2010. The PRIDCO-prepared Final EIS will be available for review at the addresses provided in this Notice in both Spanish and English. RUS' SFEIS will incorporate this document by reference and focus on those topics that have changed since the PRIDCO-prepared Final EIS was finalized. RUS's SFEIS will be available for review and comment for 30 days. Following the 30-day review period, RUS will prepare a Record of Decision (ROD). Notices announcing the availability of the SFEIS and the ROD will be published in the Federal Register and in local newspapers.

Any final action by RUS related to the proposal will be subject to, and contingent upon, compliance with all relevant executive orders and federal, state, and local environmental laws and regulations in addition to the completion of the environmental review requirements as prescribed in RUS's Environmental Policies and Procedures, 7 CFR Part 1794, as amended.

Dated: February 20, 2013.
Mark S. Plank,
Director, Engineering and Environmental Staff, USDA, Rural Utilities Service.

[FR Doc. 2013-08629 Filed 4-11-13; 8:45 am]

BILLING CODE P